DEPARTMENT OF AGRICULTURE

Forest Service

Rising Cougar Project, Idaho Panhandle National Forests, Bonner County, ID

AGENCY: Forest Service, USDA.

ACTION: Notice of Intent to Prepare an Environmental Impact Statement.

SUMMARY: The USDA Forest Service will prepare an environmental impact statement (EIS) to document and disclose the potential environmental effects of proposed activities on National Forest lands near the communities of Hope and Clark Fork, Idaho. The proposed activities for the Rising Cougar Project are located in the Sandpoint Ranger District, Idaho Panhandle National Forests, 25 miles east of Sandpoint, Idaho.

Goals of the proposed activities include: (1) Maintain or restore the characteristics of ecosystem composition and structure within the range of variability that would be expected to occur under natural disturbance regimes. More specific objectives include: (a) Decrease fuel loadings on National Forest lands along the wildland urban interface to reduce the threat of uncontrollable wildfire to life and property, (b) restore big game winter range conditions and promote the long-term persistence and stability of wildlife habitat diversity, and (c) re-establish structural diversity of forest stands and decrease the proportions of Douglas-fir and grand fir, creating favorable conditions for the growth and establishment of ponderosa pine, white pine and larch. Another goal of the proposal is (2) manage motorized access and road densities in the roaded portion of the project area to benefit watersheds and grizzly bear habitat recovery goals.

Activities would include logging using a variety of yarding systems, slashing of brush and small trees, prescribed burning, and road management activities.

The Sandpoint Ranger District of the Idaho Panhandle National Forests in Bonner County, Idaho will administer these activities. The EIS will tier to the Idaho Panhandle National Forests Plan (September 1987).

DATES: Comments should be postmarked within 30 days after publication of this notice. Please include your name and address and the name of the project you are commenting on.

ADDRESSES: Submit written comments and suggestions on the proposed management activities or request to be placed on the project mailing list by writing to: Rising Cougar Project, Attn: Judy York, Sandpoint Ranger District, 1500 Hwy 2, Suite 110, Sandpoint, ID 83864.

FOR FURTHER INFORMATION CONTACT: Judy York, Project Team Leader, Sandpoint Ranger District at 208-265-6665 or by e-mail at jyork@fs.fed.us.

Comments received in response to this solicitation, including names and addresses of those who comment, will be considered part of the public record on this proposed action and will be available for public inspection. Comments submitted anonymously will be accepted and considered; however, those who submit anonymous comments will not have standing to appeal the subsequent decision under 36 CFR parts 215 or 217. Additionally, pursuant to 7 CFR 1.27 (d), any person may request the agency to withhold a submission from the public record by showing how the Freedom of Information Act (FOIA) permits such confidentiality. For persons requesting such confidentiality, it may be granted in only very limited circumstances, such as to protect trade secrets. The Forest Service will inform the requester of the agency's decision regarding the request for confidentiality, and where the request is denied, the agency will return the submission and notify the requester that the comments may be resubmitted with or without name and address within 10 days.

SUPPLEMENTARY INFORMATION: More information about the Rising Cougar Project can be found on the Internet at http://www.fs.fed.us/ipnf/eco/manage/nepa/index.html.

The legal description for the project area includes all or portions of sections 30-32 in T57N, R2E; sections 1, 3-5, 9-14, 16, 17 and 24 in T56N; R2E; sections 6, 7, 19, and 30-33 in T56N, R3E; section 1 in T55N, R2E; and sections 3-7 and 10 in T44N, R3E.

The Forest Service will be preparing an environmental impact statement for the following proposed activities and alternative courses of action based on public comments.

Treatment in Inventoried Roadless Areas (IRAs): Portions of the project lie within the Beetop and Scotchman IRAs. To achieve our ecosystem objectives in the inventoried roadless areas, helicopter logging and prescribed burning activities would be used on about 4,080 acres.

Treatment Outside Inventoried Roadless Areas: To achieve our ecosystem objectives in the south portion of the project area, helicopter and road-based logging systems, and prescribed burning would be used on about 1,965 acres. In areas where we need to promote the regeneration of white pine, ponderosa pine, and larch, openings would be planted with these species. In addition, about 0.5 mile of temporary road would be constructed on Sugarloaf Mountain to access stands for treatment using road-based logging systems.

To achieve our watershed and grizzly bear habitat recovery goals, road management activities would include putting 5.7 miles of gated road into storage, decommissioning 3.4 miles of road, and transferring the motorized access point of an unclassified road to a classified road with 0.2 miles of new road construction.

Preliminary issues identified relate to effects of the proposed activities on: roadless area characteristics, public road access, water quality, fish habitat, risk of fire, air quality, noxious weed spread, visual quality, noise, soils, heritage resources, old growth, finances, and threatened, endangered and sensitive fish, wildlife and plants. Current alternatives consist of the proposed action and no action.

Two periods are specifically designated for comments on this analysis: (1) During the scoping period which is 30 days from the date of this notice in the Federal Register and (2) during the draft EIS comment period. In accordance with 36 CFR 215.5, as published in the Federal Register, Volume 68 no. 107, June 4, 2003, the draft EIS comment period will be the designated time in which “substantive” comments will be considered. The mailing list for this project will include those individuals who have expressed interest in this project as well as adjacent landowners and those responding to this NOI or to the Idaho Panhandle National Forests Quarterly Schedule of Proposed Action. In addition, the public is encouraged to contact or visit with Forest Service officials during the analysis and prior to the decision. The Forest Service will continue to seek information, comments, and assistance for Federal, Tribal, State, and local agencies and other individuals or organizations that may be interested in or affected by the proposed actions. The United States Fish and Wildlife Service will be consulted concerning any effects to threatened and endangered species. The agency invites written comments and suggestions on this action, particularly in terms of identification of issues and alternative development.

Comments from the public and other agencies will be used in preparation of the Draft EIS to identify potential issues and concerns, potential alternatives to the proposed action and to promote communications with members of the public or other agencies. The draft environmental impact statement (DEIS) will be filed with the Environmental Protection Agency (EPA) and made available for public review in spring of 2004. The final environmental impact statement is expected to be completed in fall of 2004. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts and agency to the reviewer's position and contentions. Vermont Yankee Nuclear Power Corp. v. NRDC, 435 U.S. 519, 553 (1978). Also, environmental objections that could be raised at the draft environmental statement stage but that are not raised until after completion of the final environmental statement may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues related to the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The United States Department of Agriculture (USDA) prohibits discrimination in its programs on the basis of race, color, national origin, sex, religion, age, disability, political beliefs, and marital or familial status. (Not all prohibited bases apply to all programs.) Persons with disabilities who require alternative means of communication of program information (braille, large print, audiotape, etc.) should contact USDA's TARGET Center at (202) 720-2600 (voice and TDD). To file a complaint, write the Secretary of Agriculture, U.S. Department of Agriculture, Washington, DC 20250, or call 1-800-245-6340 (voice) or 202-720-1127 (TDD), USDA is an equal employment opportunity employer.

The Idaho Panhandle National Forests Supervisor will make a decision on this project after considering comments and responses, environmental consequences discussed in the Final EIS, and applicable laws, regulations and policies. The decision and supporting reasons will then be documented in a Record of Decision.

Dated: September 17, 2003.
Ranotta K. McNair,
Forest Supervisor, Idaho Panhandle National Forests.

[FR Doc. 03-24269 Filed 9-24-03; 8:45 am]

BILLING CODE 3410-11-M